DEPARTMENT OF THE INTERIOR

National Park Service

Glacier Bay National Park and Preserve; Alaska; Glacier Bay Compensation Program

AGENCY: National Park Service, Interior.

ACTION: Notice of Availability of the draft Glacier Bay Compensation Program Plan.

SUMMARY: Section 123(c) of the Omnibus Consolidated and Emergency Supplemental Appropriations Act for FY 1999 (“the Act”), as amended by section 501 of the 1999 Emergency Supplemental Appropriations Act, Public Law 106-31 (05/21/99), authorizes compensation for fish processors, fishing vessel crewmembers, communities and others negatively affected by congressionally directed restrictions and closures on commercial fishing in the marine waters of Glacier Bay National Park. The National Park Service (NPS) and the State of Alaska have been working to develop and implement the compensation program as broadly envisioned by Congress in the Act. The first step in this process was the August 1, 2000, release of the Final Economics Assessment Report which quantified the financial impacts resulting from the commercial fishing restrictions and closures. The draft plan was available for public review on September 29, 2000.

DATES: Comments on the draft Glacier Bay Compensation Program Plan will be accepted through November 30, 2000. If individuals submitting comments request that their name or/and address be withheld from public disclosure, it will be honored to the extent allowable by law. Such requests must be stated prominently in the beginning of the comments. There also may be circumstances wherein the NPS will withhold a respondent's identity as allowable by law. NPS will make available to public inspection all submissions from organizations or businesses and from persons identifying themselves as representatives or officials of organizations and businesses; and, anonymous comments may not be considered.

ADDRESSES: Comments on the draft Glacier Bay Compensation Program Plan should be submitted to Clark Millett, Compensation Program Manager, Glacier Bay National Park and Preserve, 2770 Sherwood Lane, Suite I, Juneau, Alaska 99801. Phone (907) 586-7047.

FOR FURTHER INFORMATION CONTACT: A copy of the draft Compensation Program Plan can be viewed and downloaded at http://www.nps.gov/learn/preserve/issues/fish/. Copies of the draft Glacier Bay Compensation Program Plan are available from: Clark Millett, Compensation Program Manager, Glacier Bay National Park and Preserve, 2770 Sherwood Lane, Suite I. Juneau, Alaska 99801. Phone (907) 586-7047.

Dated: September 28, 2000.
Thomas Ferranti,
Acting Regional Director, Alaska Region.

[FR Doc. 00-25678 Filed 10-5-00; 8:45 am]

BILLING CODE 4310-70-M